DEPARTMENT OF ENERGY

Federal Energy Regulatory Commission

[Docket No. AD09-6-000]

Pipeline Siting and Stakeholder Involvement Workshop; Notice of Pipeline Siting and Stakeholder Involvement Workshop

May 15, 2009.

On June 1, 2009, the Federal Energy Regulatory Commission (FERC or Commission) will hold a workshop, hosted by Commissioner Philip Moeller, on natural gas pipeline siting. The workshop will focus on the importance of pipeline companies working collaboratively with affected stakeholders throughout the environmental review and certification process to successfully site new pipeline infrastructure. A case study of a recent major pipeline project will be presented by the pipeline company representatives. In addition, a panel of outreach experts from the industry and FERC staff will provide perspectives on innovative approaches to stakeholder outreach and the importance of outreach efforts in the siting process.

The workshop will be held at the Commission's Headquarters, 888 First St., NE., Washington, DC 20426 in the Commission Meeting Room from 1 p.m. until 4:15 p.m. EST. All interested parties may attend. The workshop will not be transcribed, and telephone participation will not be available.

Commission workshops and conferences are accessible under section 508 of the Rehabilitation Act of 1973. For accessibility accommodations please send an e-mail to accessibility@ferc.gov or call toll free 1-866-208-3372 (voice) or 202-208-8659 (TTY), or send a FAX to 202-208-2106 with the required accommodations.

The agenda for the siting workshop is attached. For additional information concerning this event, please contact Lauren O'Donnell at 202-502-8325 or Berne Mosley at 202-502-8625.

Kimberly D. Bose,
Secretary.

Pipeline Siting and Stakeholder Involvement Workshop Agenda

1 p.m. Welcome and Opening Remarks.

1:15 p.m. Case Study of CenterPoint Energy's Carthage to Perryville Pipeline Project.

Debbie Ristig, Vice President, Engineering and Compliance, CenterPoint Energy.

2:15 p.m. Break.

2:30 p.m. Stakeholder Outreach Panel Discussion.

Julee Stephenson, Director, Regulatory and Government Affairs, NiSource Gas Transmission & Storage.

Cindy Ivey, Manager, Public Outreach, Transcontinental Gas Pipeline.

Susan Waller, Vice President, Stakeholder Outreach, Spectra Energy Transmission.

Douglas Sipe, Outreach Coordinator, Federal Energy Regulatory Commission.

3:45 p.m. Questions and Closing Remarks.

4:15 p.m. Adjourn.

[FR Doc. E9-12083 Filed 5-22-09; 8:45 am]

BILLING CODE 6717-01-P